DEPARTMENT OF COMMERCE

National Oceanic and Atmospheric Administration

DEPARTMENT OF INTERIOR

Fish and Wildlife Service

[I.D. 063000D]

Notice of Intent to Prepare an Environmental Impact Statement Regarding Issuance of an Incidental Take Permit and Enhancement of Survival Permit to Simpson Timber Company, California Timberlands, for Forest Management in Del Norte and Humboldt Counties, California

AGENCIES: National Marine Fisheries Service (NMFS), National Oceanic and Atmospheric Administration (NOAA), Commerce; Fish and Wildlife Service, Interior.

ACTION: Notice of intent to conduct public scoping and prepare an environmental impact statement.

SUMMARY: Pursuant to the National Environmental Policy Act of 1969, as amended (NEPA), we, the National Marine Fisheries Service (NMFS) and the Fish and Wildlife Service (FWS) intend to prepare an Environmental Impact Statement (EIS) regarding an expected application from the Simpson Timber Company, California Timberlands (Simpson) for an incidental take permit for take of threatened salmonid species and an enhancement of survival permit for coverage of an unlisted fish species and unlisted amphibian species, in accordance with section 10(a) of the Endangered Species Act of 1973, as amended (ESA). As required by the ESA, Simpson is preparing a Habitat Conservation Plan/Candidate Conservation Agreement (Plan/Agreement) and applications for an incidental take permit and an enhancement of survival permit (Permits) related to forest management and timber operations on a portion of its lands in Del Norte and Humboldt Counties, California. Simpson expects to apply for an incidental take permit pursuant to section 10(a)(1)(B) of the ESA from NMFS for the coho salmon (Oncorhynchus kisutch) and chinook salmon (O. tshawytscha), and may also seek coverage for one currently unlisted species, coastal steelhead (O. mykiss irideus) under the incidental take permit should this species be listed in the future. Simpson is also preparing an application for an enhancement of survival permit under the Candidate Conservation Agreement with Assurances Policy of the FWS for the coastal cutthroat trout (O. clarki clarki), southern torrent salamander (Rhyacotriton variegatus) and tailed frog (Ascaphus truei).

We are furnishing this notice in order to advise other agencies and the public of our intentions and to announce the initiation of a public scoping period during which other agencies and the public are invited to provide written comments on the scope of issues to be included in the EIS.

DATES: We request comments be received on or before August 10, 2000. Public scoping meetings, at which oral and written comments can be submitted, are scheduled for July 11, 2000, from 3:00 p.m. to 5:30 p.m. and from 6:00 p.m. to 8:30 p.m., at the Cultural Center Atrium, 1001 Front Street, Crescent City, CA, and July 12, from 3:00 p.m. to 5:30 p.m. and from 6:00 p.m. to 8:30 p.m., at the Double Tree Hotel, 1929 4th Street, Eureka, CA.

ADDRESSES: Comments regarding the scope of the EIS and requests for additional information should be addressed to Mr. James Bond, NMFS, or Ms. Amedee Brickey, FWS, both located at 1655 Heindon Road, Arcata, CA 95521. Written comments may also be sent by facsimile to (707) 822-8411. Comments received will be available for public inspection, by appointment, during normal business hours (Monday through Friday; 8:00 a.m. to 5:00 p.m.) at the above address. All comments received, including names and addresses, will become part of the official administrative record and may be available to the public.

FOR FURTHER INFORMATION CONTACT: Mr. James Bond, NMFS, or Ms. Amedee Brickey, or Mr. John Hunter FWS, at the address above, or telephone (707) 822-7201.

SUPPLEMENTARY INFORMATION: Simpson owns and manages approximately 457,000 acres of commercial timberland in Del Norte, Humboldt and Trinity Counties, California. This property occurs in watersheds with habitat important to the conservation of salmonid species in the North Coast region of California, including, but not limited to, the Winchuck River, Smith River, Klamath River and its tributaries, Redwood Creek, Little River, Mad River, tributaries to Humboldt Bay, Eel River, the Van Duzen River and others. Many of these streams are listed as water quality limited under Section 303(d) of the Clean Water Act. Some of Simpson's management activities have the potential to impact salmonid and other species subject to protection under the ESA. Section 10(a)(1)(B) of the ESA contains provisions for the issuance of incidental take permits to non-Federal land owners for the take of endangered and threatened species, provided, in part, the take is incidental to otherwise lawful activities and will not appreciably reduce the likelihood of the survival and recovery of the species in the wild. Simpson is preparing a 50-year Plan/Agreement that is intended to provide for management of approximately 431,000 acres of its California properties in Del Norte and Humboldt Counties in a manner that will minimize and mitigate the impacts of take of certain salmonid species currently listed under the ESA or which may be listed during the life of the Plan/Agreement. Once completed, it is expected that Simpson will submit the Plan/Agreement to NMFS as part of an application for the permits.

The Candidate Conservation Agreement with Assurances Policy (64 FR 32706-32716 and 64 FR 32726-32736) contains provisions for the issuance of enhancement of survival permits (section 10(a)(1)(A) of the ESA) to non-Federal land owners to cover the take of currently unlisted species in the event that such species are listed in the future, provided, in part, that the take is incidental to otherwise lawful activities and will not appreciably reduce the likelihood of the survival and recovery in the wild of any species. An applicant for an enhancement of survival permit must prepare and submit a permit application to the FWS for approval along with an Agreement containing a strategy for covered lands that demonstrates the applicant's appropriate contribution to precluding or removing the need to list the species as threatened or endangered under the ESA. The applicant must ensure that adequate funding for the Agreement will be provided. Once completed, it is anticipated that Simpson will submit its Plan/Agreement to the FWS as part of its application for an enhancement of survival permit.

Activities that Simpson may propose for Permit coverage include mechanized timber harvest; forest product transportation; road and landing construction, use, maintenance and abandonment; site preparation; tree planting; certain types of vegetation management; fertilizer application; silvicultural thinning and other silvicultural activities; fire suppression; rock quarries and borrow pit operations; gravel extraction; aquatic habitat restoration and other forest management activities. The Plan/Agreement would also likely cover certain monitoring activities and scientific work in the Plan area.

NMFS will evaluate the incidental take permit application and associated Plan in accordance with section 10(a)(1)(B) of the ESA and its implementing regulations. The FWS will evaluate the enhancement of survival permit application and associated Agreement in accordance with section 10(a)(1)(A) of the ESA, its implementing regulations and the Candidate Conservation Agreement with Assurances Policy.

The environmental review will analyze the action as proposed by Simpson. Simpson's proposal is expected to seek authorization for take of the covered species incidental to the activities that are described above. The habitat conservation plan prepared by Simpson in support of the applications described above will describe the impacts of the taking for which authorization is sought. In addition, the HCP will propose a conservation strategy to minimize and mitigate those impacts to the maximum extent practicable and to satisfy other applicable requirements of the ESA and its implementing regulations. This conservation strategy is expected to include enhanced stream buffers, a sediment reduction program, a monitoring program, adaptive management measures and certain salmonid, fish and aquatic habitat restoration. The HCP will also identify alternatives to the conservation plan considered by Simpson and explain why those alternatives were not selected. Under Simpson's Plan alternative, we would issue the requested permits and Simpson would implement its Plan within the Plan area.

The environmental review will also analyze a full range of reasonable alternatives to the proposed action, including a No Action alternative, and the associated impacts of each. We are currently in the process of developing alternatives for analysis. In connection with developing alternative approaches, we will consider, for example, modified lists of covered species, modified permit coverage areas, i.e., portions of the landscape subject to permit coverage, modified permit terms and different mitigation/aquatic resource management strategies that would serve the purpose of minimizing and mitigating the impacts of incidental take. We will consider other project alternatives recommended during this scoping process in order to develop a full range of reasonable alternatives. We invite comments and suggestions from all interested parties to ensure that a reasonable range of alternatives and issues related to them are addressed and that all significant issues are identified.

We will conduct an environmental review of the permit application and the Plan/Agreement and prepare an Environmental Impact Statement in accordance with NEPA requirements, as amended (42 U.S.C. 4321 et seq.), and its implementing regulations (40 CFR parts 1500 through 1508) and in accordance with other applicable Federal laws and regulations and policies and procedures of the Services for compliance with those regulations. The Services estimate that the draft EIS will be available for public review during the fourth quarter of 2000.

Dated: July 5, 2000.
Wanda L. Cain,
Chief, Endangered Species Division, Office of Protected Resources, National Marine Fisheries Service.

Dated: June 30, 2000.
Elizabeth Stevens,
Acting California/Nevada Operations Manager, U.S. Fish and Wildlife Service, Sacramento, California.

[FR Doc. 00-17509 Filed 7-10-00; 8:45 am]

BILLING CODE 3510-22-F, 4310-55-F